DEPARTMENT OF COMMERCE

[I.D. 102104E]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southwest Region Vessel Identification Requirements.

Form Number(s): None.

OMB Approval Number: 0648-0361.

Type of Request: Regular submission.

Burden Hours: 1,130.

Number of Respondents: 1,481.

Average Hours Per Response: 45 minutes.

Needs and Uses: Vessels in the West Coast Highly Migratory Species fishery would be required to display the vessel's official number in three locations (port and starboard sides of the deckhouse or hull, and on an appropriate weather deck). The requirement is necessary to aid enforcement of fishery regulations.

Affected Public: Business or other for-profit organizations, and individuals or households.

Frequency: Third party disclosure.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: October 19, 2004.
Gwellnar Banks,
Management Analyst, Office of the Chief Information Officer.

[FR Doc. 04-24007 Filed 10-26-04; 8:45 am]

BILLING CODE 3510-22-S